FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

O. K. Shipping, Inc., 17936 E. Ajax Circle, Suite C, City of Industry, CA 91748. Officers: David Homan, President/Secretary, (Qualifying Individual), Chin-Cheng Kuo, Chairman

International Cargo Consolidators, Inc., 10049 N.W. 89th Avenue, Bay #2-3, Medley FL 33178. Officers: Maria T. Olivero, Vice President, (Qualifying Individual), Pedro Rodriguez, President

Simpson's Shipping Enterprise, 166 West First Street, Mount Vernon, NY 10550. Officers: George Simpson, Manager, (Qualifying Individual), Linda Morris Simpson, Partner

Safco Int'l Freight Forwarders, Inc., 5250 W. Centuy Blvd., Suite 458, Los Angeles, CA 90045. Officers: John Edison Crabtree, Vice President, (Qualifying Individual), Theresa, Suh-Bih Chen, President/CEO

P.Y. Logistics, Inc., Pumyang Overseas Express U.S.A., 19401 S. Main Street, Suite 102, Gardena, CA 90248. Officer: Hae Sun Song, President, (Qualifying Individual)

Future International Inc., 11222 La Cienega Blvd., #448, Inglewood, CA 90304. Officer: Sung Moo Kim, President, (Qualifying Individual),

Harbour-Link International, Inc., 1579 Louis Kossuth Ave., P.O. Box 470, Bohemia, NY 11716. Officers: Mario N. Serrao, President, (Qualifying Individual), Sheldon F. Serrao, Vice President

Non-Vessel Operating Common Carrier and Ocean Freight Forwarder Transportation Intermediary Applicants

Cubic Express Company Ltd., 60 Helwig Street, Berea, OH 44017. Officers: Edward L. Evans, General Manager, (Qualifying Individual), Keith W. Baker, President

FEI Holdings d/b/a The Focus 21 Forwarding Group/Vision Freight Lines, 2813 Parkview Terrace, Fairfield, CA 94533. Officers: Matthew Sanford Ford, CEO/President, (Qualifying Individual), Barbara A. Walthall-Ford, Vice President

Ocean Freight Forwarder—Ocean Transportation Intermediary Applicants

Global Shipping Enterprises Inc., 8425 NW 29 Street, Miami, FL 33122. Officer: Gustavo Merck, President/Secretary, (Qualifying Individual)

Military Relocation Services, Inc., 815 S. Main Street, Jacksonville, FL 32207. Officers: Stephen F. Crooks, Vice President, (Qualifying Individual), Stephen M. Suddath, President

Cargo Links Logistics, Inc., 5581 NW 72 Avenue, Miami, FL 33166. Officers: Jose S. Sanchez, Vice President, (Qualifying Individual), Cristina Iapichino, President/Secretary

All Dimensions, Inc., 1094 Jefferson Court, Newburgh, IN 47630. Officers: Rhine Blake, President, (Qualifying Individual), Ann Blake, Vice President

Dated: February 9, 2001.
Bryant L. VanBrakle,
Secretary.

[FR Doc. 01-3767 Filed 2-13-01; 8:45 am]

BILLING CODE 6730-01-P